DEPARTMENT OF LABOR

Employment and Training Administration

[TA-W-40,947]

BASF Corporation, Vitamin Division, a Subsidiary of BASFIN Corporation, Including Leased Workers of Adecco, Wyandotte, MI; Amended Certification Regarding Eligibility To Apply for Worker Adjustment Assistance

In accordance with Section 223 of the Trade Act of 1974 (19 U.S.C. 2273) the U.S. Department Labor issued a Certification of Eligibility to Apply for Worker Adjustment Assistance on May 9, 2002, applicable to workers of BASF Corporation, Vitamin Division, a subsidiary of BASFIN Corporation, Wyandotte, Michigan. The notice was published in the Federal Register on May 17, 2002 (67 FR 35141).

At the request of the State agency, the Department reviewed the certification for workers of the subject firm. Information provided by the State shows that leased workers of Adecco were employed at BASF Corporation, Vitamin Division, a subsidiary of BASFIN Corporation to produce vitamin E, vitamin A and food blends/mixes at the Wyandotte, Michigan location of the subject firm.

Based on these findings, the Department is amending the certification to include leased workers of Adecco who were working at BASF Corporation, Vitamin Division, a subsidiary of BASFIN Corporation, Wyandotte, Michigan.

The intent of the Department's certification is to include all workers of BASF Corporation, Vitamin Division, a subsidiary of BASFIN Corporation who were adversely affected by increased imports.

The amended notice applicable to TA-W-40,947 is hereby issued as follows:

All workers of BASF Corporation, Vitamin Division, a subsidiary of BASFIN Corporation, Wyandotte, Michigan, and leased workers of Adecco producing of vitamin E, vitamin A and food blends/mixes at BASF Corporation, Vitamin Division, a subsidiary of BASFIN Corporation, Wyandotte, Michigan, who became totally or partially separated from employment on or after January 14, 2001, through May 9, 2004, are eligible to apply for adjustment assistance under Section 223 of the Trade Act of 1974.

Signed at Washington, DC this 27th day of March 2003.
Linda G. Poole,
Certifying Officer, Division of Trade Adjustment Assistance.

[FR Doc. 03-8846 Filed 4-9-03; 8:45 am]

BILLING CODE 4510-30-P